DEPARTMENT OF TRANSPORTATION

Federal Aviation Administration

RTCA Joint Special Committee 190/ Eurocae Working Group 52 Software Guidance

Pursuant to section 10(a)(2) of the Federal Advisory Committee Act (Pub. L. 92-463, 5 U.S.C., appendix 2), notice is hereby given for Joint Special Committee (SC)-190/EUROCAE Working Group 52 meeting to be held April 24-27, 2001, starting at 9:00 a.m. on April 24. The meeting will be held at the Radisson Suite Hotel Oceanfront, 3101 North Highway A1A, Melbourne, FL 32903.

The agenda will include: Plenary session: (1) Welcome and Introductory Remarks; (2) Review Meeting Agenda; (3) Review Previous Meeting Minutes; (4) Reports: (a) Executive Committee; (b) Annual Report; (c) Certification Authorities Software Team; (d) Status of FAA Activities; (e) Status of Joint Aviation Authorities Activities; (5) Rockwell Collins Company Presentation; (6) Introduction to Communication Navigation Surveillance/Air Traffic Management (CNS/ATM) domain and Sub-group status report; (7) Review CNS/ATM Draft 1, Sections 1,2,3,5 and Appendices; (8) CNS/ATM Sub-group presents Section 4 to the Plenary. April 25 (8:30 a.m): (9) Continue Plenary on Section 4; (10) Sub-group break-out sessions; (11) Plenary for approval of section 1, 2, 3, 5 and Appendices. April 26 (8:30 a.m): (12) Plenary for approval of section 4; (13) Sub-group break-out sessions; April 27 (8:30 a.m): Plenary Session: (14) Executive Committee Report; (15) Web-site deliverable Report; (16) Approvals for CNS/ATM Document or CNS/ATM related Frequently Asked Questions; (17) Other Business; (18) Date and Location of Next Meeting; (19) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax); or http://www.rtca.org (web site). Members of the public may present a written statement to the committee at any time.

Issued in Washington, DC, on March 28, 2001.
Janice L. Peters,
Designated Official.

[FR Doc. 01-8191 Filed 4-3-01; 8:45 am]

BILLING CODE 4910-13-M